ENVIRONMENTAL PROTECTION AGENCY

40 CFR Part 721

[EPA-HQ-OPPT-2021-0847; FRL-9972-03-OCSPP]

RIN 2070-AB27

Significant New Use Rules on Certain Chemical Substances (22-1.5e); Correction

AGENCY: Environmental Protection Agency (EPA).

ACTION: Proposed rule; correction.

SUMMARY: EPA is issuing a correction to a proposed rule that published in the Federal Register of Friday, December 2, 2022, in which EPA proposed significant new use rules (SNURs) under the Toxic Substances Control Act (TSCA) for chemical substances that were the subject of premanufacture notices (PMNs) and are also subject to Orders issued by EPA pursuant to TSCA. This document corrects an inadvertent error in the Chemical Abstracts Service (CAS) Registry number identified for Phosphonium, tributyl (2-methoxypropyl)-, salt with 1,1,2,2,3,3,4,4,4-nonafluoro-N-methyl-1-butanesulfonamide (1:1) (PMN Number P-03-77).

DATES: Comments on the proposed rule must be received on or before January 3, 2023.

ADDRESSES: Submit your comments, identified by docket identification (ID) number EPA-HQ-OPPT-2021-0847, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: For technical information contact: William Wysong, New Chemicals Division (7405M), Office of Pollution Prevention and Toxics, Environmental Protection Agency, 1200 Pennsylvania Ave. NW, Washington, DC 20460-0001; telephone number: (202) 564-4163; email address: Wysong.william@epa.gov.

SUPPLEMENTARY INFORMATION: EPA is correcting an inadvertent error in the Chemical Abstracts Service (CAS) Registry number identified for Phosphonium, tributyl (2-methoxypropyl)-, salt with 1,1,2,2,3,3,4,4,4-nonafluoro-N-methyl-1-butanesulfonamide (1:1) (PMN Number P-03-77) in the proposed rule that published in the Federal Register of Friday, December 2, 2022 (87 FR 74072; FRL-9972-01-OCSPP), in which EPA proposed significant new use rules (SNURs) under the Toxic Substances Control Act (TSCA) for chemical substances that were the subject of premanufacture notices (PMNs) and are also subject to Orders issued by EPA pursuant to TSCA. EPA proposed to codify this SNUR as 40 CFR 721.11727.

Correction

In FR Doc. 2022-26252 appearing on page 74072 in the Federal Register of Friday, December 2, 2022, the following corrections are made:

1. On page 74079, in the first column, the phrase “CAS or Accession Number: CAS No. 332350-93-3.” is corrected to read “CAS or Accession Number: CAS No. 332350-90-0.”

2. On page 74088, in the first column, the proposed regulatory text for 40 CFR 721.11727(a)(1) is corrected to read as follows:

“(a) Chemical substance and significant new uses subject to reporting. (1) The chemical substance identified as Phosphonium, tributyl (2-methoxypropyl)-, salt with 1,1,2,2,3,3,4,4,4-nonafluoro-N-methyl-1-butanesulfonamide (1:1) (PMN P-03-77; CAS No. 332350-90-0) is subject to reporting under this section for the significant new uses described in paragraph (a)(2) of this section.”

Dated: December 9, 2022.
Tala Henry,
Deputy Director, Office of Pollution Prevention and Toxics.

[FR Doc. 2022-27184 Filed 12-14-22; 8:45 am]

BILLING CODE 6560-50-P